DEPARTMENT OF TRANSPORTATION

Federal Aviation Administration

14 CFR Part 39

[Docket No. 2001-NM-110-AD]

RIN 2120-AA64

Airworthiness Directives; Saab Model SAAB SF340A and SAAB 340B Series Airplanes

AGENCY: Federal Aviation Administration, DOT.

ACTION: Notice of proposed rulemaking (NPRM).

SUMMARY: This document proposes the adoption of a new airworthiness directive (AD) that is applicable to all Saab Model SAAB SF340A and SAAB 340B series airplanes. This proposal would require modifying or replacing flight data recorders (FDR) of a certain model. This action is prompted by reports of a number of incidents in which flight data has been lost from the FDR. This action is necessary to prevent loss of flight data from the FDR, which could hamper discovery of the cause of an accident, preventing the Federal Aviation Administration from developing and mandating actions to prevent additional accidents caused by the same unsafe condition.

DATES: Comments must be received by September 17, 2001.

ADDRESSES: Submit comments in triplicate to the Federal Aviation Administration (FAA), Transport Airplane Directorate, ANM-114, Attention: Rules Docket No. 2001-NM-110-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2001-NM-110-AD” in the subject line and need not be submitted in triplicate. Comments sent via the Internet as attached electronic files must be formatted in Microsoft Word 97 for Windows or ASCII text.

Information pertaining to the proposed AD may be examined at the FAA, Transport Airplane Directorate, 1601 Lind Avenue, SW., Renton, Washington.

FOR FURTHER INFORMATION CONTACT: Rosanne Ryburn, Aerospace Engineer, International Branch, ANM-116, FAA, Transport Airplane Directorate, 1601 Lind Avenue, SW., Renton, Washington 98055-4056; telephone (425) 227-2139; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-110-AD.” The postcard will be date stamped and returned to the commenter.

Availability of NPRMs

Any person may obtain a copy of this NPRM by submitting a request to the FAA, Transport Airplane Directorate, ANM-114, Attention: Rules Docket Number 2001-NM-110-AD, 1601 Lind Avenue, SW., Renton, Washington 98055-4056.

Discussion

The FAA has received reports of a number of incidents of loss of flight data on SAAB Model SF340A and SAAB 340B series airplanes equipped with Loral F800 flight data recorders (FDRs). These FDRs are subject to rapid tape movements or jitter, which causes loss or distortion of flight data transmitted to them. Investigation of accidents involving airplanes equipped with these FDRs has revealed that, in a number of cases, the loss of flight data has prevented determination of the cause of the accident.

FAA's Determination of Unsafe Condition

This action is necessary to prevent the loss of flight data from the Loral F800 FDRs. Such loss of data does not directly affect the safety of the airplane on which the FDR is located. However, should an airplane equipped with a malfunctioning FDR also have an unrelated unsafe condition that results in an incident or accident, the data retrieved from the FDR may be distorted or missing. This lack of reliable data could hamper discovery of the unsafe condition that caused the incident or accident and prevent the FAA from developing and mandating actions to prevent additional incidents or accidents caused by that same unsafe condition. Therefore, the FAA has determined that the proposed AD is necessary.

It should be noted that the purpose of this proposed AD is not to enhance the safety of Model SAAB SF340A and SAAB 340B series airplanes, but rather to restore the level of safety provided by the originally approved FDR. Therefore, this AD is the appropriate regulatory vehicle to achieve this purpose.

U.S. Type Certification of the Airplanes

These airplane models are manufactured in Sweden and are type certificated for operation in the United States under the provisions of section 21.29 of the Federal Aviation Regulations (14 CFR 21.29) and the applicable bilateral airworthiness agreement.

Explanation of Requirements of Proposed Rule

The proposed AD would require inspection of the FDR to determine whether it is a Loral F800 having a certain part number. If it is found that the FDR is a Loral F800 having the certain part number, the FDR must be modified or replaced.

Cost Impact

The FAA estimates that 267 airplanes of U.S. registry would be affected by this proposed AD.

It would take approximately 1 hour to inspect the FDR to determine whether it is a Loral F800 model having a certain part number, and the average labor rate is $60 per work hour. Based on these figures, the cost impact of the proposed inspection on U.S. operators is estimated to be $16,020, or $60 per airplane.

Since the manufacturer of the FDR has not yet developed a specific modification commensurate with the requirements of this proposed AD, the FAA is unable to provide information as to the number of work hours or the cost of parts that may be required to accomplish the proposed modification. As indicated earlier in this preamble, the FAA specifically invites the submission of comments and other data regarding this economic aspect of the proposed AD.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

SAAB AIRCRAFT AB: Docket 2001-NM-110-AD.

Applicability: All Model SAAB SF340A and SAAB 340B series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent loss of flight data from the flight data recorder (FDR), which could hamper discovery of the cause of an accident, preventing the FAA from developing and mandating actions to prevent additional accidents caused by the same unsafe condition, accomplish the following:

Modification or Replacement

(a) Within 6 months after the effective date of this AD: Inspect the FDR to determine whether it is a Loral F800 model having part number (P/N) 17M800-261, and if the FDR is a Loral F800 model having P/N 17M800-261, modify the FDR or replace it with a different model, in accordance with a method approved by the Manager, International Branch, ANM-116, FAA, Transport Airplane Directorate.

Alternative Methods of Compliance

(b) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Issued in Renton, Washington, on August 13, 2001.
Vi L. Lipski,
Manager, Transport Airplane Directorate, Aircraft Certification Service.

[FR Doc. 01-20810 Filed 8-16-01; 8:45 am]

BILLING CODE 4910-13-P